DEPARTMENT OF THE INTERIOR

National Park Service

[NPS-MWR-ISRO-33985; PPWONRADE2, PMP00EI05.YP0000]

Notice of Intent To Prepare an Environmental Impact Statement for a Wilderness Stewardship Plan for Isle Royale National Park, Michigan

AGENCY: National Park Service, Interior.

ACTION: Notice of intent.

SUMMARY: The National Park Service (NPS) is preparing an Environmental Impact Statement (EIS) in accordance with the National Environmental Policy Act (NEPA) for a Wilderness Stewardship Plan (WSP) for Isle Royale National Park (ISRO or the park).

DATES: The NPS requests comments concerning the scope of the analysis, and identification of relevant information, studies, and analyses. All comments must be received or postmarked by November 21, 2022.

ADDRESSES: Information will be available for public review and comment will only be accepted at http://parkplanning.nps.gov/ISROWilderness. Information will also be available at Isle Royale National Park, 800 East Lakeshore Drive, Houghton, Michigan and by request.

FOR FURTHER INFORMATION CONTACT: Superintendent Denice Swanke, Isle Royale National Park, Wilderness Stewardship Plan, 800 East Lakeshore Drive, Houghton, Michigan 49931, or by telephone at (906) 482-0984, or email at denice_swanke@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Purpose and Need for the Proposed Action

The purpose of this plan is to outline strategies for preserving wilderness character, including the treatment of cultural resources in wilderness, while also providing for the use and enjoyment of the park by current and future generations. This plan would determine preservation and use of historic structures in potential and designated wilderness.

The NPS identified the following needs for this WSP/EIS:

• NPS Management Policies 2006 requires that each park containing wilderness maintain an up-to-date and approved wilderness management plan (NPS 2006, section 6.3.4.2).

• The previous ISRO Backcountry Wilderness Plan and Final EIS (2011; no Record of Decision) did not provide a decision for treatments and use of historic structures in potential and designated wilderness.

• The 1998 General Management Plan (GMP) specified that a wilderness and backcountry management plan is needed to guide the management of wilderness resources and ensure consistency in such management over time.

• Preliminary inventory and monitoring of wilderness and backcountry resources indicate a difference between existing conditions and desired conditions. Changes in backcountry use, management actions, increasing visitation, and associated human-caused adverse impacts suggest an underlying need to more proactively manage human activities that directly or indirectly affect wilderness conditions.

Preliminary Proposed Action and Alternatives

The NPS's proposed action is to prepare and implement a Wilderness Stewardship Plan that provides the park with tools to enhance wilderness character with specific emphasis on improving the visitors' wilderness experience while maintaining the park's natural and wilderness qualities. This proposed action also provides for access opportunities consistent with the public purposes of wilderness. Treatment of historic structures in wilderness could include: preservation, stabilization or mouldering, or demolition.

Actions Common to All Alternatives

• Vegetation Clearing. In select locations, the park may clear vegetation around installations and structures for historic preservation. Vegetation would continue to be cleared around mine shaft fencing. Hazard trees would be removed in the vicinity of Senter Point powder house and steam hoist, and limited vegetation removal would be performed at Island Mine and Island Mine Cemetery. Vegetation overgrowth would be removed to maintain visibility at cemeteries and burial sites.

• Damaged or Destroyed Historic Structures. Damaged or destroyed historic structures may be removed following NPS Management Policies 2006.

• Management of Public Use in Wilderness. The park would continue to use boardwalks in order to minimize damage to wetlands and other natural wilderness qualities. The park may maintain picnic tables in some campgrounds when they are determined necessary for the protection of nearby vegetation and soils. Interpretive, educational and outreach programs would be provided to encourage park visitors to minimize their impacts to park resources and visitor experiences by applying the following principles of Leave No Trace.

Actions Common to All Action Alternatives

The following actions are being considered within the WSP/EIS

• Trail Maintenance. Protecting fragile habitats from trampling, trail widening, and erosion as well as minimizing hazardous trail conditions would remain a primary objective of trail construction and maintenance.

• Administrative Overnight Use of Historic Structures in Wilderness (except Amygdaloid and Davidson). Historic structures in wilderness or potential wilderness may periodically be utilized for administrative overnight use by NPS staff, tribal partners, volunteers, park partners, researchers, and roving caretakers.

• Fire Management for Historic Structures. The park would develop Defensible Spaces standard operating procedures as it relates to protecting NPS infrastructure from wildfire.

• Backcountry Office and Processing Fees. A mainland-based backcountry office would be established.

• Campground/Campfire Management. Campfires contained within designated campfire rings may be allowed in designated areas provided that enough down and dead wood is available within a collectable distance and campfire rings may be rotated periodically.

• Human Waste Management. Privies would be retained for use and the appropriate number and location would be determined through this process. Privies are associated with existing campgrounds, administrative sites or historic structures and are necessary for the health and safety of wilderness users and to limit impacts from human waste on the natural quality of wilderness.

• Wilderness Interpretation and Public Signage. The NPS would review current signage and limit to only those necessary for safety or protection of resources, such as route markers, distance and directions, and hazard signage. Some signage would be removed.

Alternative A—No Action Alternative—Current Management

The “no-action alternative” describes the continuation of existing management practices as described in the 1998 GMP and as implemented through the compendium. The GMP does not include an overarching stewardship component designed to enhance wilderness character. There would be no formal priority or treatment distinction for historic structures in wilderness.

Alternative B—Enhancing Wilderness Character While Improving the Visitor Wilderness Experience (Proposed Action)

Alternative B focuses on enhancing wilderness character with specific emphasis on improving the wilderness experience while maintaining Isle Royale's natural and untrammeled wilderness qualities. This alternative would provide for additional access opportunities consistent with the public purposes of wilderness, including additional trails, a new campground, and additional campsites in existing campgrounds.

The alternative designates day use group size limitations by zones to enhance opportunities for unconfined recreation and solitude, while providing opportunities and access for more family groups. The alternative would provide flexibility for managers to reroute trails and bridges in order to avoid sensitive species and address changes in the environment, benefiting Isle Royale's natural quality.

Isle Royale wilderness includes a number of historic structures, most of which are Nationally Significant and listed on the National Register of Historic Places. Many of these structures contribute to the cultural and historic value of Isle Royale's wilderness. Treatment of historic structures in wilderness would include preservation, stabilization, mouldering, or demolition.

Groups of 9 to 12 people would be required to register for group campsite reservations in advance. Groups from the same organization would not be allowed to camp in the same campground at the same time. Tents would be required to be placed within designated tent pads. If a group exceeds 12 people they must split into 2 parties, each independent and traveling on separate itineraries. Organizations may not have more than 24 people camping on the island at one time. The park would implement monitoring to determine if changes to the group size limits should be adjusted.

In order to reduce visitor conflict and provide for opportunities for solitude in the pristine and backcountry zone, the following day use groups size limits would apply:

• Front Country Zone: Group size limit of 40. The Front Country Zone includes limited areas within wilderness and most of the areas outside of wilderness. Attractions such as Edisen Fishery, Scoville Point, Raspberry Island, Passage Island trail, and Suzy's Cave are in this zone.

• Wilderness Portal, Backcountry, and Primitive Zone Trails: Group size limit of 24 (2 groups of 12 or fewer). This includes most trails and campgrounds. Group sizes of up to 40 people would be allowed at the following locations: Hidden Lake, Lookout Louise, McCargoe Cove, and the Minong.

Alternative C—Enhancing Wilderness Character While Improving Solitude

Like alternative B, alternative C focuses on enhancing wilderness character, but does so by focusing primarily on improving solitude. Solitude is generally preserved or improved by management actions that reduce visitor encounters, signs of modern civilization inside wilderness, facilities, and management restrictions on visitor behavior. The alternative emphasizes solitude by decreasing day use group size, reducing the number of campsites within campgrounds, eliminating trails, allowing winter public use, and implementing a camping permit system. The alternative proposes eliminating commercial use within Isle Royale wilderness which would enhance solitude through reducing visitor encounters with large groups. The alternative would also remove shelters and structures in wilderness to improve the primitive and unconfined recreation qualities, natural, and undeveloped qualities of wilderness character. Like alternative B, historic structures in wilderness could be classified for treatment as preservation, stabilization, mouldering, or demolition.

Under this alternative, overnight group size would remain unchanged from current conditions (alternative A). Day use group size limits would be limited to:

• Front Country Zones: Group size limit of 20. The Front Country Zone includes limited areas within wilderness and most of the areas outside of wilderness including attractions such as Edisen Fishery, Scoville Point, Raspberry Island, Passage Island trail, and Suzy's Cave.

• Wilderness Portal, Backcountry, and Primitive Zone: Group size limit of 10. This includes most trails and campgrounds. Hidden Lake, Lookout Louise, McCargoe Cove and the Minong Mine would be exceptions, with group sizes of up to 20 people allowed.

Summary of Expected Impacts

The proposed action alternatives are expected to result in improvements to wilderness character. Changes to camping practices, including proposed permitting changes, additional trails, and changes in campgrounds would improve the opportunity for solitude in the wilderness, reduce visitor conflicts and address overcrowding and capacity concerns. Some of the alternatives include elements that detract from opportunities for unconfined recreation, including reservations systems, permitting, designated camping areas, and other features associated with campgrounds. However, these generally improve other aspects of wilderness character, including the opportunity for solitude and they reduce the extent of impacts to natural and cultural features in the park. Alternatives including the retention and preservation of Nationally Significant historic structures enhance cultural and historic values of wilderness. The preservation of these structures, however, detract from the undeveloped quality of wilderness. Seasonal closure of the Park detracts from the opportunity for unconfined wilderness recreation.

Anticipated Permits and Authorizations

The NPS anticipates informally consulting with the U.S. Fish and Wildlife Service under section 7 of the Endangered Species Act for unlikely impacts to threatened and endangered species. The NPS will use and coordinate the NEPA public scoping process to help fulfill the public involvement requirements under the National Historic Preservation Act (54 U.S.C. 306108) as provided in 36 CFR 800.2(d)(3).

NPS initiated consultation for this undertaking in compliance with Section 106 of the National Historic Preservation Act regarding the treatments of historic properties in wilderness beginning in 2010. These consultation efforts and documented meetings will be used to inform this effort, as well as continuing consultation efforts.

Schedule for the Decision-Making Process

• Agencies have two years from the date of the issuance of the notice of intent, to the date a record of decision is signed, to complete an Environmental Impact Statement (40 CFR 1501.10).

• The NPS expects to make the Draft EIS available to the public in Fall 2022.

• After public review and comment, the NPS expects to make the Final EIS available to the public in Spring 2023.

• At least 30 days after the Final EIS is available, the record of decision will be completed in accordance with applicable timeframes established in 40 CFR 1506.11.

Public Scoping Process

This notice of intent initiates the scoping process, which guides the development of the EIS. Written comments may be submitted at any time during the scoping process. See the ADDRESSES section (above) and the Submitting Comments section (below) for more information. There will be no public meetings during the public scoping period.

Reasonable Accommodations

Persons needing reasonable accommodations should contact the park, using one of the methods listed in the FOR FURTHER INFORMATION CONTACT section as soon as possible.

Request for Identification of Potential Alternatives, Information, and Analyses Relevant to the Proposed Action

The NPS requests possible alternatives, information, and analyses from all interested parties. The NPS will consider these comments in developing the Draft EIS. Specifically, the NPS is seeking:

• Potential effects that the alternatives could have on other aspects of the human environment, including ecological, aesthetic, historic, cultural, economic, social, environmental justice, or health effects;

• Other possible reasonable alternatives that the NPS should consider, including additional or alternative avoidance, minimization, and mitigation measures;

• Other information relevant to the Wilderness Stewardship Plan and its impacts on the human environment.

Submitting Comments

If you wish to comment, you may submit comments by the methods listed above in the ADDRESSES section. Comments will not be accepted by fax, email, or by any method other than those specified above. Bulk comments in any format (hard copy or electronic) submitted on behalf of others will not be accepted. Comments must be provided prior to the close of the comment period and should clearly articulate the reviewer's concerns and contentions.

Public Availability of Comments

Before including your address, phone number, email address, or other personal identifying information in your comment, you should be aware that your entire comment—including your personal identifying information—may be made publicly available at any time. While you can ask us in your comment to withhold your personal identifying information from public review, we cannot guarantee that we will be able to do so. Comments submitted anonymously will be accepted and considered.

Decision Maker

The Decision Maker is the NPS Regional Director for Interior Regions 3, 4, and 5.

Termination of 2001 EIS Process

This notice also terminates the EIS for a Wilderness Management Plan initiated by the NPS on October 2, 2001 (66 FR 50207).

Herbert Frost,
Regional Director, DOI Interior Regions 3, 4, and 5.

[FR Doc. 2022-22971 Filed 10-20-22; 8:45 am]

BILLING CODE 4312-52-P